DEPARTMENT OF COMMERCE

International Trade Administration

[A-122-855, A-533-861, A-523-810, A-570-024]

Certain Polyethylene Terephthalate Resin From Canada, the People's Republic of China, India, and the Sultanate of Oman: Amended Final Affirmative Antidumping Determination (Sultanate of Oman) and Antidumping Duty Orders

AGENCY: Enforcement and Compliance, International Trade Administration, Department of Commerce.

SUMMARY: Based on affirmative final determinations by the Department of Commerce (the “Department”) and the International Trade Commission (the “ITC”), the Department is issuing antidumping duty orders on certain polyethylene terephthalate (“PET”) resin from Canada, the People's Republic of China (“PRC”), India, and the Sultanate of Oman (“Oman”). In addition, as a result of a ministerial error, the Department is amending its final determination of sales at less-than-fair-value (“LTFV”) with regard to PET resin from Oman.

DATES: Effective May 6, 2016.

FOR FURTHER INFORMATION CONTACT: Karine Gziryan at (202) 482-4081 (Canada), Steve Bezirganian at (202) 482-1131 (PRC), Fred Baker at (202) 482-2924 (India), or Jonathan Hill at (202) 482-3518 (Oman), AD/CVD Operations, Enforcement and Compliance, International Trade Administration, U.S. Department of Commerce, 14th Street and Constitution Avenue NW., Washington, DC 20230.

SUPPLEMENTARY INFORMATION:

Background

In accordance with sections 735(d) and 777(i)(1) of the Tariff Act of 1930, as amended (the “Act”), and 19 CFR 351.210(c), on March 14, 2016, the Department published its affirmative final determinations in the LTFV investigations of certain PET resin from Canada, the PRC, India, and Oman.¹ On March 14, 2016, the Department received a timely allegation from OCTAL SAOC—FZC (“OCTAL”) that the Department made ministerial errors in the final determination in the AD investigation of PET resin from Oman.² The Department analyzed OCTAL's comments and determined that ministerial errors exist, as defined by section 735(e) of the Act and 19 CFR 351.224(f). See “Amendment to Oman Final Determination” section below for further discussion.

¹ See Certain Polyethylene Terephthalate Resin from Canada: Final Determination of Sales at Less Than Fair Value, 81 FR 13319 (March 14, 2016) (“Canada Final”); Certain Polyethylene Terephthalate Resin from the People's Republic of China: Final Determination of Sales at Less Than Fair Value, 81 FR 13331 (March 14, 2016) (“PRC Final”); Certain Polyethylene Terephthalate Resin from India: Final Determination of Sales at Less Than Fair Value and Final Affirmative Determination of Critical Circumstances, 81 FR 13327 (March 14, 2016) (“India Final”); and Certain Polyethylene Terephthalate Resin from the Sultanate of Oman: Final Determination of Sales at Less Than Fair Value, 81 FR 13336 (March 14, 2016) (“Oman Final”).

² See Letter from OCTAL, “OCTAL's Request to Correct Ministerial Errors in Final Determination Certain Polyethylene Terephthalate (PET) Resin from the Sultanate of Oman,” dated March 14, 2016.

On April 28, 2016, the ITC notified the Department of its affirmative determination that an industry in the United States is materially injured within the meaning of section 735(b)(1)(A)(i) of the Act, by reason of the LTFV imports of certain PET resin from Canada, India, the PRC, and Oman and its determination that critical circumstances do not exist with respect to imports of subject merchandise from India ³ that are subject to the Department's affirmative critical circumstances finding.⁴

³ No critical circumstances were alleged with respect to imports of subject merchandise from Canada, the PRC, or Oman.

⁴ See Letter to Christian Marsh, Deputy Assistant Secretary of Commerce for Enforcement and Compliance, from Meredith Broadbent, Chairman of the U.S. International Trade Commission, regarding certain polyethylene terephthalate resin from Canada, China, India, and Oman (April 28, 2016) (“ITC Letter”); see also Certain Polyethylene Terephthalate Resin from Canada, China, India, and Oman, USITC Investigation Nos. 701-TA-531-532 and 731-TA-1270-1273 (Final), USITC Publication 4604 (April 2016).

Scope of the Orders

The merchandise covered by these orders is PET resin having an intrinsic viscosity of at least 0.70, but not more than 0.88, deciliters per gram. The scope includes blends of virgin PET resin and recycled PET resin containing 50 percent or more virgin PET resin content by weight, provided such blends meet the intrinsic viscosity requirements above. The scope includes all PET resin meeting the above specifications regardless of additives introduced in the manufacturing process. The merchandise subject to these orders is properly classified under subheading 3907.60.00.30 of the Harmonized Tariff Schedule of the United States (HTSUS). Although the HTSUS subheading is provided for convenience and customs purposes, the written description of the merchandise covered by these orders is dispositive.

Amendment to Oman Final Determination

On March 14, 2016, OCTAL submitted an allegation claiming that the Department made a ministerial error because its comparison market program failed to recognize the gross unit prices for all home market sales transactions invoiced in United States Dollars (“USD”).⁵ A ministerial error is defined as an error in addition, subtraction, or other arithmetic function, clerical error resulting from inaccurate copying, duplication, or the like, and any other similar type of unintentional error which the Secretary considers ministerial.⁶

⁵ See Letter from OCTAL to the Secretary of Commerce “OCTAL's Request to Correct Ministerial Errors in Final Determination Certain Polyethylene Terephthalate (PET) Resin from the Sultanate of Oman,” dated March 14, 2016.

⁶ See section 735(e) of the Act.

The Department reviewed the record and agrees that the error referenced in OCTAL's allegation constitutes a ministerial error within the meaning of 19 CFR 351.224(f).⁷ Specifically, the Department inadvertently omitted from its price comparisons the gross unit prices reported in the comparison market database for sales transactions in which the gross unit price was reported in USD.⁸ As a result of this omission, normal value (“NV”) was not calculated for all of OCTAL's comparison market sales transactions and thus, a comparison between U.S. sales prices and NVs using all appropriate NVs was not made.⁹ Accordingly, because NV was not calculated for all comparison market sales, the Department is revising the comparison market programing language in a manner which will result in the program recognizing the gross unit prices of sales transactions for which the gross unit price was reported in USD.¹⁰ Pursuant to 19 CFR 351.224(f), the Department is amending the Oman Final to reflect the correction of the ministerial error described above. Based on our correction, OCTAL's weighted-average dumping margin decreased from 7.82 percent to 7.62 percent. In addition, because the “all-others” rate is based on OCTAL's dumping margin, the Department has revised the all-others rate in this amended final determination accordingly.¹¹

⁷ See Final Determination in the Antidumping Duty Investigation of Certain Polyethylene Terephthalate Resin from the Sultanate of Oman: Ministerial Error Memorandum,” dated April 4, 2016.

⁸ Id.

⁹ Id.

¹⁰ Id.

¹¹ See the “Estimated Weighted-Average Dumping Margins” section below.

Antidumping Duty Orders

As stated above, on April 28, 2016, in accordance with section 735(d) of the Act, the ITC notified the Department of its final determinations in these investigations, in which it found that an industry in the United States is materially injured by reason of imports of certain PET resin from Canada, the PRC, India, and Oman and that critical circumstances do not exist with respect to imports of subject merchandise from India that are subject to the Department's affirmative critical circumstances finding.¹² Therefore, in accordance with section 735(c)(2) of the Act, the Department is issuing these antidumping duty orders. Because the ITC determined that imports of certain PET resin from Canada, the PRC, India, and Oman are materially injuring a U.S. industry, unliquidated entries of such merchandise from Canada, the PRC, India, and Oman, entered or withdrawn from warehouse for consumption, are subject to the assessment of antidumping duties.

¹² See ITC Letter.

Therefore, in accordance with section 736(a)(1) of the Act, the Department will direct U.S. Customs and Border Protection (“CBP”) to assess, upon further instruction by the Department, antidumping duties equal to the amount by which the NV of the merchandise exceeds the export price (or constructed export price) of the merchandise, for all relevant entries of certain PET resin from Canada, the PRC, India, and Oman. Antidumping duties will be assessed on unliquidated entries of certain PET resin from Canada, the PRC, India, and Oman entered, or withdrawn from warehouse, for consumption on or after October 15, 2015, the date of publication of the preliminary determinations,¹³ but will not include entries occurring after the expiration of the provisional measures period and before publication of the ITC's final injury determination as further described below.

¹³ See Certain Polyethylene Terephthalate Resin from Canada: Affirmative Preliminary Determination of Sales at Less Than Fair Value and Postponement of Final Determination, 80 FR 62019 (October 15, 2015) (“Canada Prelim”); Certain Polyethylene Terephthalate Resin From the People's Republic of China: Preliminary Determination of Sales at Less Than Fair Value and Postponement of Final Determination, 80 FR 62024 (October 15, 2015) (“PRC Prelim”), as corrected by Certain Polyethylene Terephthalate Resin From the People's Republic of China: Notice of Correction to Preliminary Affirmative Less Than Fair Value Determination, 80 FR 69643 (November 10, 2015); Certain Polyethylene Terephthalate Resin From India: Affirmative Preliminary Determination of Sales at Less Than Fair Value, Affirmative Preliminary Determination of Critical Circumstances, and Postponement of Final Determination, 80 FR 62029 (October 15, 2015) (“India Prelim”); and Certain Polyethylene Terephthalate Resin from the Sultanate of Oman: Affirmative Preliminary Determination of Sales at Less Than Fair Value and Postponement of Final Determination, 80 FR 62021 (October 15, 2015) (“Oman Prelim”).

Suspension of Liquidation

In accordance with section 735(c)(1)(B) of the Act, the Department will instruct CBP to continue to suspend liquidation on all relevant entries of certain PET resin from Canada, the PRC, India, and Oman. These instructions suspending liquidation will remain in effect until further notice.

The Department will also instruct CBP to require cash deposits equal to the amounts as indicated below, which are adjusted for certain countervailable subsidies, where appropriate, as described below. Accordingly, effective on the date of publication of the ITC's final affirmative injury determinations, CBP will require, at the same time as importers would normally deposit estimated duties on this subject merchandise, a cash deposit equal to the cash deposit rates listed below.¹⁴ The relevant all-others rates apply to all producers or exporters not specifically listed. For the purpose of determining cash deposit rates, the estimated weighted-average dumping margins for imports of subject merchandise from the PRC and India have been adjusted, as appropriate, for export subsidies found in the final determinations of the companion countervailing duty investigations of this merchandise imported from the PRC and India.¹⁵ Regarding the cash deposit rates for subject merchandise from the PRC, estimated weighted-average dumping margins were also adjusted, where appropriate, for estimated domestic subsidy pass-through.¹⁶

¹⁴ See section 736(a)(3) of the Act.

¹⁵ See PRC Final and India Final. See also section 772(c)(1)(C) of the Act.

¹⁶ See section 777A(f) of the Act.

Provisional Measures

Section 733(d) of the Act states that instructions issued pursuant to an affirmative preliminary determination may not remain in effect for more than four months, except where exporters representing a significant proportion of exports of the subject merchandise request the Department to extend that four-month period to no more than six months. At the request of exporters that account for a significant proportion of certain PET resin from Canada, the PRC, India, and Oman, the Department extended the four-month period to six months in each case.¹⁷ In the underlying investigations, the Department published the preliminary determinations on October 15, 2015. Therefore, the extended period, beginning on the date of publication of the preliminary determination, ended on April 11, 2016. Furthermore, section 737(b) of the Act states that definitive duties are to begin on the date of publication of the ITC's final injury determination.

¹⁷ See Canada Prelim; PRC Prelim; India Prelim; and Oman Prelim.

Therefore, in accordance with section 733(d) of the Act and our practice, the Department will instruct CBP to terminate the suspension of liquidation and to liquidate, without regard to antidumping duties, unliquidated entries of certain PET resin from Canada, the PRC, India, and Oman entered, or withdrawn from warehouse, for consumption after April 11, 2016, the date on which the provisional measures expired, until and through the day preceding the date of publication of the ITC's final injury determinations in the Federal Register. Suspension of liquidation will resume on the date of publication of the ITC's final determination in the Federal Register.

Critical Circumstances

With regard to the ITC's negative critical circumstances determination on imports of subject merchandise from India, the Department will instruct CBP to lift suspension and to refund any cash deposits made to secure the payment of estimated antidumping duties with respect to entries of subject merchandise entered, or withdrawn from warehouse, for consumption on or after July 17, 2015 (i.e., 90 days prior to the date of publication of the India Prelim), but before October 15, 2015, (i.e., the date of publication of the India Prelim).

Estimated Weighted-Average Dumping Margins

The weighted-average antidumping duty margin percentages and cash deposit rates are as follows:

Exporter or producer | Weighted- average dumping margin (percent) | Cash deposit rate (percent)
Canada:
Selenis Canada | 13.60 | 13.60
All-Others | 13.60 | 13.60
India:
Dhunseri Petrochem, Ltd | 19.41 | 14.31
Ester Industries, Ltd | 14.23 | 9.31
JBF Industries, Ltd | 19.41 | 0.00
Reliance Industries, Ltd | 8.03 | 2.93
All-Others | 11.13 | 6.03

Exporter | Producer | Weighted- average dumping margin (percent) | Cash deposit rate (percent) ¹⁸
PRC:
Far Eastern Industries (Shanghai) Ltd. or Oriental Industries (Suzhou) Limited | Far Eastern Industries (Shanghai) Ltd. or Oriental Industries (Suzhou) Limited | 104.98 | 99.29
Jiangyin Xingyu New Material Co., Ltd. or Jiangsu Xingye Plastic Co., Ltd. or Jiangyin Xingjia Plastic Co., Ltd. or Jiangyin Xingtai New Material Co., Ltd. or Jiangsu Xingye Polytech Co., Ltd | Jiangyin Xingyu New Material Co., Ltd. or Jiangsu Xingye Plastic Co., Ltd. or Jiangyin Xingjia Plastic Co., Ltd. or Jiangyin Xingtai New Material Co., Ltd. or Jiangsu Xingye Polytech Co., Ltd | 118.32 | 114.15
Dragon Special Resin (XIAMEN) Co., Ltd | Dragon Special Resin (XIAMEN) Co., Ltd | 114.47 | 100.85
Hainan Yisheng Petrochemical Co., Ltd. | Hainan Yisheng Petrochemical Co., Ltd | 114.47 | 105.70
Shanghai Hengyi Polyester Fiber Co., Ltd | Shanghai Hengyi Polyester Fiber Co., Ltd | 114.47 | 105.70
Zhejiang Wankai New Materials Co., Ltd | Zhejiang Wankai New Materials Co., Ltd | 114.47 | 105.70
PRC-Wide Entity |  | 126.58 | 125.75
¹⁸ Certain PRC cash deposit rates have changed since the PRC Final to reflect certain changes to the subsidy rates in the amended final determination of the companion countervailing duty investigation. See Memorandum from Tyler Weinhold, International Trade Analyst, AD/CVD Operations, Office VI and Steve Bezirganian, International Trade Analyst, AD/CVD Operations, Office VI to Robert James, Program Manager, AD/CVD Operations, Office VI “Certain Polyethylene Terephthalate Resin from the People's Republic of China: Adjustment to Final Double Remedies Calculations to Account for Corrections of Ministerial Errors in the Companion Countervailing Duty Investigation,” dated concurrently with this notice.

Exporter or producer | Weighted- average dumping margin (percent) | Cash deposit rate (percent)
Oman:
OCTAL SAOC-FZC | 7.62 | 7.62
All-Others | 7.62 | 7.62

This notice constitutes the antidumping duty orders with respect to certain PET resin from Canada, the PRC, India, and Oman pursuant to section 736(a) of the Act. Interested parties can find a list of antidumping duty orders currently in effect at http://enforcement.trade.gov/stats/iastats1.html.

These orders are published in accordance with section 736(a) of the Act and 19 CFR 351.211(b).

Dated: May 3, 2016.
Paul Piquado,
Assistant Secretary for Enforcement and Compliance.

[FR Doc. 2016-10762 Filed 5-5-16; 8:45 am]

BILLING CODE 3510-DS-P